DEPARTMENT OF COMMERCE

National Oceanic and Atmospheric Administration

50 CFR Part 635

RIN 0648-BC09

Atlantic Highly Migratory Species; Amendment 7 to the 2006 Consolidated Atlantic Highly Migratory Species Fishery Management Plan

AGENCY: National Marine Fisheries Service (NMFS), National Oceanic and Atmospheric Administration (NOAA), Commerce.

ACTION: Notice of intent (NOI) to hold public scoping meetings and to prepare a draft environmental impact statement (EIS); request for comments.

SUMMARY: NMFS announces its intent to hold public scoping meetings to determine the scope and significance of issues to be analyzed in a draft environmental impact statement (EIS) on management measures for Atlantic bluefin tuna (BFT) and a potential proposed amendment to the 2006 Consolidated HMS FMP based on that process. The public process will help NMFS determine if existing measures are the best means of achieving certain management objectives for Atlantic BFT and providing flexibility for future management, consistent with the Consolidated HMS FMP, the Magnuson-Stevens Fishery Conservation and Management Act (Magnuson-Stevens Act), the Atlantic Tunas Convention Act (ATCA), and other relevant Federal laws. NMFS is also announcing the availability of a scoping document describing measures for potential inclusion in a proposed Amendment. Table 1, below, under SUPPLEMENTARY INFORMATION, provides details for seven scoping meetings to discuss and collect comments on the scoping document and certain management objectives for BFT. NMFS is requesting comments on this NOI, and the management of BFT, including, but not limited to, those described in the scoping document.

DATES: Written comments on this NOI and the scoping document must be received on or before July 15, 2012.

ADDRESSES: Scoping meetings will be held at the locations listed below in Table 1 in SUPPLEMENTARY INFORMATION. You may submit comments, identified by “NOAA-NMFS-2012-0082”, by any one of the following methods:

• Electronic Submissions: Submit all electronic public comments via the Federal eRulemaking Portal http://www.regulations.gov. To submit comments via the e-Rulemaking Portal, first click the “submit a comment” icon, then enter “NOAA-NMFS-2012-0082” in the keyword search. Locate the document you wish to comment on from the resulting list and click on the “Submit a Comment” icon on the right of that line.

• Fax: 978-281-9340, Attn: Tom Warren.

• Mail: Tom Warren, Highly Migratory Species Management Division, Office of Sustainable Fisheries (F/SF1), NMFS, 55 Great Republic Drive, Gloucester, MA 01930.

• Instructions: Comments must be submitted by one of the above methods to ensure that the comments are received, documented, and considered by NMFS. Comments sent by any other method, or to any other address or individual, or received after the end of the comment period, may not be considered. All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word or Excel, WordPerfect, or Adobe PDF file formats only. To be considered, electronic comments must be submitted via the Federal eRulemaking Portal http://www.regulations.gov. Do not submit electronic comments to individual NMFS staff.

The scoping document is available by sending your request to Tom Warren at the mailing address specified above, or by calling the phone number indicated below. The scoping document or the Consolidated HMS FMP also may be downloaded from the HMS Web site at www.nmfs.noaa.gov/sfa/hms/.

FOR FURTHER INFORMATION CONTACT: Tom Warren or Brad McHale, 978-281-9260, or online at http://www.nmfs.noaa.gov/sfa/hms/.

SUPPLEMENTARY INFORMATION:

Background

Atlantic HMS, including BFT, are managed under the dual authority of the Magnuson-Stevens Act and ATCA. The Consolidated HMS FMP is implemented by regulations at 50 CFR part 635. Copies of the Consolidated HMS FMP are available upon request. The 1999 FMP allocated the annual U.S. BFT quota recommended by ICCAT to BFT fishing categories based on landings from 1983-1991. Landings were the only portion of catch (i.e., “catch” includes both landings and dead discards) that were factored into the 1999 FMP percentage allocation analysis for the various BFT fisheries at that time, as dead discards were accounted for under a separate ICCAT allocation. The fishing category percentage allocations continued unchanged in the 2006 Consolidated HMS FMP. The ICCAT provision for a separate dead discard allowance has since been eliminated, and dead discards must now be accounted for within annual quota allocations, along with landings. Furthermore, pursuant to ICCAT Recommendation 10-03, the amount of underharvest that is allowed to be carried forward from one year to the next recently has decreased. During the 2011 BFT quota and Atlantic tuna management measures rulemaking (2011 Quota Rule)(March 14, 2011; 76 FR 13583) process, the adjusted quota for 2011 was insufficient to account for anticipated 2011 dead discards up front, while also providing base allocations for the categories per the percentages outlined in the Consolidated HMS FMP. The proposed 2012 specifications rule (77 FR 15712; March 16, 2012) anticipates a similar situation for the 2012 fishing year.

The range of comments received on the 2011 Quota Rule and during recent HMS Advisory Panel (AP) meetings has demonstrated the need for a comprehensive review of BFT management measures. Many comments raised issues that were outside of the scope of that rulemaking and would require more significant analyses because of the potential impacts on the environment, fisheries, and fishery participants. Some of the issues raised include, but are not limited to: Holding each quota category accountable for dead discards; changing domestic allocations among fishing categories; reducing BFT bycatch; modifying the permit structure for the fisheries; improved monitoring of catch in all BFT fisheries; providing incentives to the Longline category to reduce interactions with BFT; and reducing dead discards in the pelagic longline (PLL) fishery.

Management Options and Request for Comments

NMFS requests comments on management options, including, but not limited to, the following: Deduction of estimated dead discards from quotas at the beginning of the fishing year for all permit categories; revision of baseline quota allocations; methods to improve reporting and monitoring of dead discards and landings in all categories; elimination of target catch requirements for Longline category (pelagic); reduction of minimum BFT size restrictions; modification of BFT retention tolerances for Purse seine and Harpoon categories; specification of maximum catch limit for Angling category; mandatory retention of BFT in the Longline category; regional or individual BFT catch caps for the Longline category; modification to existing pelagic longline gear closed areas; creation of new pelagic longline gear closed area(s); modifications to sub-quota rules (e.g., how the General or Angling category subquota is divided up among seasons or areas); establishment of an annual quota and rollover provisions for Northern albacore tuna; and other administrative measures (such as regulations about permit issuance). NMFS also requests comment on any other fishery management issue pertaining to BFT fisheries, which the public believes should be further examined by NMFS. These comments will be used to assist in the development of a proposed Amendment 7. The types of management measures under consideration for Amendment 7 will include those described in the scoping document, as well as alternative measures that may be suggested during the scoping process.

Scoping Process

It is NMFS's intent to encourage all persons affected by or otherwise interested in the management of BFT or other HMS species to participate in the process to determine the scope and significance of issues to be analyzed in the draft EIS and Amendment 7. All such persons are encouraged to submit written comments (see ADDRESSES) or comment at one of the scoping meetings. Persons submitting comments may wish to address the specific measures in the scoping document.

NMFS intends to hold scoping meetings in the geographic areas that may be affected by these measures, including locations on the Atlantic and Gulf of Mexico coasts, and will consult with the Atlantic regional fishery management councils (Table 1). After scoping has been completed and public comment gathered and analyzed, NMFS will proceed with preparation of a draft EIS and proposed rule, which will include additional opportunities for public comment. The scope of the draft EIS will consist of the range of actions, alternatives, and impacts to be considered. Alternatives may include, but are not limited to, the following: not amending the Consolidated HMS FMP (taking no action); developing an amendment that contains management measure such as those described in this notice and in the scoping document; or other reasonable courses of action. Impacts may be direct, indirect, or cumulative. NMFS expects to present relevant draft documents at the fall 2012 HMS AP meeting.

Table 1—Dates, Times and Locations of the Scoping Meetings
Date | Time | Meeting locations | Address
May 8, 2012 | 6:15-8:45 p.m. | Toms River Library (Mancini Hall), Toms River, NJ | 101 Washington Street, Toms River, NJ 08753.
May 16, 2012 | 6:00-9:00 p.m. | National Marine Fisheries Service, Northeast Regional Office, Gloucester, MA | 55 Great Republic Drive, Gloucester, MA 01930.
May 21, 2012 | 6:00-9:00 p.m. | Plaquemines Parish Government Community Center, (Belle Chasse Auditorium), Belle Chasse, LA | 8398 Hwy 23, Belle Chasse, LA 70037.
May 23, 2012 | 6:00-9:00 p.m. | Dare County Administration Bldg., Manteo, NC | 954 Marshall C. Collins Dr., Manteo, NC 27954.
* Week of June 10, (specific date to be determined) | * To be announced (MAFMC.org) | Mid-Atlantic Fishery Management Council Meeting, New York, NY | Hilton New York, 1335 Avenue of the Americas, New York, NY 10019.
* Week of June 10, (specific date to be determined) | * To be announced (SAFMC.net) | South Atlantic Fishery Management Council Meeting, Orlando, FL | Renaissance Orlando Airport Hotel, 5445 Forbes Place, Orlando, FL 32812.
* Week of June 17, (specific date to be determined) | * To be announced (NEFMC.org) | New England Fishery Management Council Meeting, Portland, ME | Holiday Inn by the Bay, 88 Spring Street, Portland, ME 04101.
* The public will be notified when the Council agendas are finalized, and the precise date and time of scoping have been scheduled. For updated information please go to www.nmfs.noaa.gov/sfa/hms/breakingnews.htm or visit the Council Web sites indicated above.

The process of developing an FMP Amendment is expected to take approximately 2 years. In addition to future HMS AP input, public comment and future analyses, there are other relevant events anticipated that may impact the development of Amendment 7, including a BFT stock assessment during the fall of 2012, a meeting of the Convention on the International Trade of Endangered Species (CITES) in the spring of 2013, revisiting the “species of concern” designation under the Endangered Species Act in 2013, and the annual meetings of ICCAT in November 2012 and 2013.

Authority: 16 U.S.C. 971 et seq.; 16 U.S.C. 1801 et seq.

Dated: April 18, 2012.
Emily H. Menashes,
Acting Director, Office of Sustainable Fisheries, National Marine Fisheries Service.

[FR Doc. 2012-9756 Filed 4-20-12; 8:45 am]

BILLING CODE 3510-22-P